ENVIRONMENTAL PROTECTION AGENCY

[EPA-HQ-OECA-2018-0248; FRL-9986-58-OEI]

Information Collection Request Submitted to OMB for Review and Approval; Comment Request; Air Stationary Source Compliance and Enforcement Information Reporting (Renewal)

AGENCY: Environmental Protection Agency (EPA).

ACTION: Notice.

SUMMARY: The Environmental Protection Agency (EPA) has submitted an information collection request (ICR), Air Stationary Source Compliance and Enforcement Information Reporting (EPA ICR Number 0107.12, OMB Control Number 2060-0096) to the Office of Management and Budget (OMB) for review and approval in accordance with the Paperwork Reduction Act. This is a proposed extension of the ICR, which is currently approved through January 31, 2019. Public comments were previously requested via the Federal Register on June 8, 2018 during a 60-day comment period. This notice allows for an additional 30 days for public comments. A fuller description of the ICR is given below, including its estimated burden and cost to the public. An agency may not conduct or sponsor and a person is not required to respond to a collection of information unless it displays a currently valid OMB control number.

DATES: Additional comments may be submitted on or before March 13, 2019.

ADDRESSES: Submit your comments, referencing Docket ID Number EPA-HQ-OECA-2018-0248, to (1) EPA online using www.regulations.gov (our preferred method), by email to docket.oeca@epa.gov, or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: David A. Meredith, Enforcement Targeting and Data Division, Office of Compliance, Mail Code 2222A, Environmental Protection Agency, 1200 Pennsylvania Ave. NW, Washington, DC 20460; telephone number: (202) 564-4152; email address: meredith.david@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW, Washington, DC. The telephone number for the Docket Center is 202-566-1744. For additional information about EPA's public docket, visit http://www.epa.gov/dockets.

Abstract: Air Stationary Source Compliance and Enforcement Information Reporting is an activity whereby State, Local, Native American, Territorial, and Commonwealth governments (hereafter referred to as either “states/locals” or “state and local agencies”) make air stationary source compliance and enforcement information available to the U.S. Environmental Protection Agency (EPA or the Agency) on a cyclic basis via input to the Air component of the Integrated Compliance Information System (ICIS-Air).

ICIS-Air supports EPA and state and local agency efforts to ensure compliance with the nation's environmental laws pertaining to air, via the collection and management of important Clean Air Act (CAA or the “Act”) compliance and enforcement information. ICIS-Air is a sub-component of ICIS, which provides compliance and enforcement information on thousands of facilities regulated under numerous federal statutes. The information provided to EPA via ICIS-Air includes source information, compliance monitoring activities, violation determinations, and enforcement activities. EPA will use this information to assess the health of the compliance and enforcement program established under the CAA, and to protect and maintain air quality, public health, and the environment. Agencies receive delegation of the CAA through regulated grant authorities, and report compliance/enforcement activities undertaken at stationary sources pursuant to the Minimum Data Requirements (MDRs) as outlined in this ICR. The provisions of Section 114(a)(1) of the Clean Air Act, 42 U.S. C Section 7414(a)(1) provide the broad authority for the reporting of compliance monitoring and enforcement information, along with SubpartQ-Reports in 40 CFR 51: Sections 51.324(a) and (b), and 51.327. This renewal requires the continuation of reporting of previously established MDRs via either direct, on-line entry or electronic data transfer (EDT) to ICIS-Air.

Form Numbers: None.

Respondents/affected entities: State, Local, Territorial, Indian Nations, and Commonwealth governments.

Respondent's obligation to respond: Mandatory, see Section 114(a)(1) of the Clean Air Act, 42 U.S. C Section 7414(a)(1).

Estimated number of respondents: 99 (total).

Frequency of response: Every 60 days.

Total estimated burden: 26,100 hours (per year). Burden is defined at 5 CFR 1320.3(b).

Total estimated cost: $1,280,000 (per year). There are no annualized capital or operation & maintenance costs.

Changes in the Estimates: There is a decrease of 25,313 hours compared to the currently approved ICR. The currently approved ICR includes burden for the use of ICIS-Air as well as the transition from the AFS to the ICIS-Air system. Additionally, the prior renewal relied on a time-study and limited consultations for burden. In this renewal, there is no change in the number of respondents or the number of responses from the prior ICR. The decrease in respondent burden occurred as a result of adjustments to the burden required for the gathering, review, quality assurance, and upload or submittal of data to ICIS-Air and any additional trainings, calls, or upkeep activities. This ICR includes no burden associated with AFS or the transition to ICIS-Air.

Courtney Kerwin,
Director, Regulatory Support Division.

[FR Doc. 2019-01873 Filed 2-8-19; 8:45 am]

BILLING CODE 6560-50-P